DEPARTMENT OF DEFENSE

GENERAL SERVICES ADMINISTRATION

NATIONAL AERONAUTICS AND SPACE ADMINISTRATION

[OMB Control No. 9000-0164; Docket 2011-0079; Sequence 20]

Federal Acquisition Regulation; Submission for OMB Review; Contractor Business Ethics Compliance Program and Disclosure Requirements

AGENCIES: Department of Defense (DOD), General Services Administration (GSA), and National Aeronautics and Space Administration (NASA).

ACTION: Notice of request for public comments regarding an extension to an existing OMB clearance.

SUMMARY: Under the provisions of the Paperwork Reduction Act (44 U.S.C. chapter 35), the Regulatory Secretariat (MVCB) will be submitting to the Office of Management and Budget (OMB) a request to review and approve an extension of a previously approved information collection requirement concerning contractor business ethics compliance program and disclosure requirements.

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

DATES: Submit comments on or before August 26, 2011.

ADDRESSES: Submit comments identified by Information Collection 9000-0164, Contractor Business Ethics Compliance Program and Disclosure Requirements, by any of the following methods:

• Regulations.gov: http://www.regulations.gov. Submit comments via the Federal eRulemaking portal by inputting “Information Collection 9000-0164, Contractor Business Ethics Compliance Program and Disclosure Requirements”, under the heading “Enter Keyword or ID” and selecting “Search”. Select the link “Submit a Comment” that corresponds with “Information Collection 9000-0164, Contractor Business Ethics Compliance Program and Disclosure Requirements”. Follow the instructions provided at the “Submit a Comment” screen. Please include your name, company name (if any), and “Information Collection 9000-0164, Contractor Business Ethics Compliance Program and Disclosure Requirements”, on your attached document.

• Fax: 202-501-4067.

• Mail: General Services Administration, Regulatory Secretariat (MVCB), 1275 First Street, NE., Washington, DC 20417. Attn: Hada Flowers/IC 9000-0164, Contractor Business Ethics Compliance Program and Disclosure Requirements.

Instructions: Please submit comments only and cite Information Collection 9000-0164, Contractor Business Ethics Compliance Program and Disclosure Requirements, in all correspondence related to this collection. All comments received will be posted without change to http://www.regulations.gov, including any personal and/or business confidential information provided.

FOR FURTHER INFORMATION CONTACT: Mr. Anthony Robinson, Procurement Analyst, Acquisition Policy Division, GSA (202) 501-2658 or e-mail Anthony.Robinson@gsa.gov.

SUPPLEMENTARY INFORMATION:

A. Purpose

The collection applies to the FAR requirements for a contractor code of business ethics and conduct, an internal control system, and disclosure to the Government of certain violations of criminal law, violations of the civil False Claims Act, or significant overpayments.

B. Annual Reporting Burden

Respondents: 284.

Responses per Respondent: 1.

Total Responses: 284.

Hours per Response: 60.

Total Burden Hours: 17,040.

Obtaining Copies of Proposals: Requesters may obtain a copy of the information collection documents from the General Services Administration, Regulatory Secretariat Branch (MVCB), 1275 First Street, NE., Washington, DC 20417, telephone (202) 501-4755. Please cite OMB Control No. 9000-0164, Contractor Business Ethics Compliance Program and Disclosure Requirements, in all correspondence.

Dated: June 8, 2011.
Millisa Gary,
Acting Director, Office of Governmentwide Acquisition Policy.

[FR Doc. 2011-16058 Filed 6-24-11; 8:45 am]

BILLING CODE 6820-EP-P